GENERAL SERVICES ADMINISTRATION

41 CFR Part 102-42

[FMR Amendment 2006-04; FMR Case 2006-102-5]

RIN 3090-AI28

Federal Management Regulation; Utilization, Donation, and Disposal of Foreign Gifts and Decorations

AGENCY: Office of Governmentwide Policy, General Services Administration (GSA).

ACTION: Final rule.

SUMMARY: The General Services Administration is amending the Federal Management Regulation (FMR) language that pertains to personal property by correcting references to outdated or superseded provisions of law or regulation; correcting text to be in conformance with revised laws, regulation, or Federal agency responsibilities; and clarifying text where the intended meaning could be updated or made clearer. The FMR and any corresponding documents may be accessed at GSA's Web site at http://www.gsa.gov/fmr.

DATES: Effective Date: June 19, 2006.

FOR FURTHER INFORMATION CONTACT: The Regulatory Secretariat, Room 4035, GSA Building, Washington, DC, 20405, (202) 208-7312, for information pertaining to status or publication schedules. For clarification of content, contact Mr. Robert Holcombe, Office of Governmentwide Policy, Office of Travel, Transportation, and Asset Management (MT), at (202) 501-3828 or e-mail at Robert.Holcombe@gsa.gov. Please cite Amendment 2006-04, FMR case 2006-102-5.

SUPPLEMENTARY INFORMATION:

A. Background

In the years since 41 CFR part 102-42 was published as a final rule, the references to other regulations which migrated from the Federal Property Management Regulations (FPMR) (41 CFR chapter 101) to the Federal Management Regulation (FMR) (41 CFR chapter 102) became outdated. Additionally, in the intervening years since this regulation was published, several agencies have moved or changed names. Finally, updating or clarifying revisions were made where the revisions are administrative or clerical in nature. This includes—

1. Clarified provisions regarding the handling of foreign gifts that are below the minimal value established by GSA, including a revised definition of “minimal value”; and

2. A revised provision for the handling of foreign gifts and decorations received by the Vice President.

B. Executive Order 12866

The General Services Administration (GSA) has determined that this final rule is not a significant regulatory action for the purposes of Executive Order 12866.

C. Regulatory Flexibility Act

This final rule is not required to be published in the Federal Register for comment. Therefore, the Regulatory Flexibility Act does not apply.

D. Paperwork Reduction Act

The Paperwork Reduction Act does not apply because the changes to the FMR do not impose information collection requirements that require the approval of the Office of Management and Budget under 44 U.S.C. 3501, et seq.

E. Small Business Regulatory Enforcement Fairness Act

This final rule is exempt from Congressional review under 5 U.S.C. 801 since it relates solely to agency management and personnel.

List of Subjects in 41 CFR Part 102-42

Government property management, Reporting and recordkeeping requirements, Decorations, medals, awards, Foreign relations, and Government property.

Dated: April 27, 2006.
David L. Bibb,
Acting Administrator of General Services.

For the reasons set forth in the preamble, GSA amends 41 CFR part 102-42 as set forth below:

PART 102-42—UTILIZATION, DONATION, AND DISPOSAL OF FOREIGN GIFTS AND DECORATIONS

1. The authority citation for 41 CFR part 102-42 is revised to read as follows:

Authority: 40 U.S.C. 121(c); 5 U.S.C. 7342.

2. Section 102-42.5 is revised to read as follows:

§ 102-42.5 What does this part cover?

This part covers the acceptance and disposition of gifts of more than minimal value and decorations from foreign governments under 5 U.S.C. 7342. If you receive gifts other than from a foreign government, you should refer to § 102-36.405 of this subchapter B.

3. Amend § 102-42.10 by revising the definition “Minimal value” to read as follows:

§ 102-42.10 What definitions apply to this part?

Minimal value means a retail value in the United States at the time of acceptance of $305 or less, except that GSA will adjust the definition of minimal value in regulations prescribed by the Administrator of General Services every three years, in consultation with the Secretary of State, to reflect changes in the consumer price index for the immediately preceding 3-year period.

§ 102-42.20 [Amended]

4. Amend § 102-42.20 in paragraph (a)(5) by removing “part 101-44 of this title” and adding “part 102-37 of this subchapter B” in its place; and by removing from paragraph (a)(6) “part 101-45 of this title” and adding “part 102-38 of this subchapter B” in its place.

5. Revise the heading and text of § 102-42.70 to read as follows:

§ 102-42.70 Who handles gifts and decorations received by the President or Vice President or a member of their family?

The National Archives and Records Administration normally handles gifts and decorations received by the President and Vice President or a member of the President's or Vice President's family.

§ 102-42.120 [Amended]

6. Amend § 102-42.120 by removing “part 101-44 of this title” and adding “part 102-37 of this subchapter B” in its place.

§ 102-42.140 [Amended]

7. Amend § 102-42.140 by removing “part 101-45 of this title” and adding “part 102-38 of this subchapter B” in its place.

§ 102-42.155 [Amended]

8. Amend § 102-42.155 by removing “part 101-45 of this title” and adding “part 102-38 of this subchapter B” in its place.

[FR Doc. 06-4629 Filed 5-17-06; 8:45 am]

BILLING CODE 6820-14-S